DEPARTMENT OF COMMERCE

International Trade Administration

[A-122-857]

Certain Softwood Lumber Products From Canada: Amended Final Results of Antidumping Duty Administrative Review; 2023

AGENCY: Enforcement and Compliance, International Trade Administration, Department of Commerce.

SUMMARY: The U.S. Department of Commerce (Commerce) is amending the final results of the administrative review of the antidumping duty (AD) order on certain softwood lumber products (softwood lumber) from Canada to correct certain ministerial and typographical errors. The period of review (POR) is January 1, 2023, through December 31, 2023.

DATES: Applicable September 11, 2025.

FOR FURTHER INFORMATION CONTACT: Thomas Martin or Joshua Jacobson, AD/CVD Operations, Office IV, Enforcement and Compliance, International Trade Administration, U.S. Department of Commerce, 1401 Constitution Avenue NW, Washington, DC 20230; telephone: (202) 482-3936 or (202) 482-0266, respectively.

SUPPLEMENTARY INFORMATION:

Background

On July 29, 2025, Commerce published, in the Federal Register, the Final Results of the administrative review of the AD order on softwood lumber from Canada for this POR.¹ On August 5 and 6, 2025, we received timely-filed ministerial error allegations from Canfor ² and West Fraser,³ the mandatory respondents in this administrative review.⁴ On August 11, 2025, we received comments on West Fraser's ministerial error allegations from the Committee Overseeing Action for Lumber International Trade Investigations or Negotiations (the petitioner).⁵ We are amending the Final Results to correct the ministerial errors raised by Canfor.⁶ Further, pursuant to our correction of the Final Results with respect to Canfor, we are revising our calculation of the dumping margin for the non-selected companies.⁷ Additionally, this notice corrects the names of two non-examined companies that Commerce listed incorrectly in the Final Results.

¹ See Certain Softwood Lumber Products from Canada: Final Results of Antidumping Duty Administrative Review, Partial Rescission of Administrative Review, and Final Determination of No Shipments; 2023, 90 FR 35666 (July 29, 2025) (Final Results), and accompanying Issues and Decision Memorandum (IDM).

² As described in the Final Results IDM at 1, n.2, we have treated Canfor Corporation, Canadian Forest Products Ltd. (CFP), Canfor Wood Products Marketing Ltd., Canfor Fox Creek Ltd. and Canfor Whitecourt Ltd. (collectively, Canfor) as a single entity.

³ As described in the Final Results IDM at 1, n.3, we have treated West Fraser Mills Ltd., Blue Ridge Lumber Inc., Manning Forest Products Ltd., and Sundre Forest Products Inc. (collectively, West Fraser) as a single entity.

⁴ See Canfor's Letter, “Canfor's Ministerial Error Comments,” dated August 5, 2025 (Canfor's Ministerial Error Allegations); see also West Fraser's Letter, “Request for Correction of Ministerial Errors in the Antidumping Duty Administrative Review Calculations,” dated August 6, 2025 (West Fraser's Ministerial Error Allegations).

⁵ See Petitioner's Letter, “Reply to West Fraser's Comments Concerning Ministerial Errors,” dated August 11, 2025 (Petitioner's Comments).

⁶ See Memorandum, “Analysis of Ministerial Error Allegations,” dated concurrently with this notice (Ministerial Error Memorandum).

⁷ See Memorandum, “Calculation of the Rate for Non-Selected Respondents,” dated concurrently with this notice (Non-Selected Rate Analysis Memorandum). A list of the non-selected companies under review is included here as Appendix I.

Legal Framework

Section 751(h) of the Tariff Act of 1930, as amended (the Act), defines a “ministerial error” as including “errors in addition, subtraction, or other arithmetic function, clerical errors resulting from inaccurate copying, duplication, or the like, and any other unintentional error which the administering authority considers ministerial.” ⁸ With respect to final results of administrative reviews, 19 CFR 351.224(e) provides that Commerce “will analyze any comments received and, if appropriate, correct any . . . ministerial error by amending the final results of review . . . .”

⁸ See 19 CFR 351.224(f).

Ministerial Errors

In the Final Results, we made certain revisions to our preliminary results calculations for Canfor.⁹ In its ministerial error comments, Canfor alleged that Commerce made two errors regarding the calculation of Canfor's general and administrative (G&A) expenses.

⁹ See Memoranda, “Analysis for the Final Results of the Fifth Antidumping Duty Administrative Review: Certain Softwood Lumber Products from Canada—Canfor Corporation, Canadian Forest Products Ltd., and Canfor Wood Products Marketing Ltd.,” dated July 24, 2025, at Attachment 1.

We agree with Canfor that we made two ministerial errors in calculating Canfor's G&A expenses in the Final Results, pursuant to section 751(h) of the Act and 19 CFR 351.224(f), and have amended our calculations to correct these errors.¹⁰ We also revised our calculation of the dumping margin for the non-selected companies.¹¹

¹⁰ See Ministerial Error Memorandum; see also Memorandum, “Analysis for the Amended Final Results of the Fifth Antidumping Duty Administrative Review: Certain Softwood Lumber Products from Canada—Canfor Corporation,” dated concurrently with this memorandum (Canfor Amended Final Calculation Memorandum).

¹¹ See Non-Selected Rate Analysis Memorandum. A list of the non-selected companies under review is included here as Appendix I.

In its ministerial error comments, West Fraser alleged that Commerce mistakenly used the wrong databases in calculating West Fraser's final weighted-average dumping margin. In its rebuttal comments, the petitioner argued that Commerce used the only data available in calculating West Fraser's final dumping margin, and thus that West Fraser's allegations cannot be considered ministerial errors pursuant to section 735(e) of the Act and 19 CFR 351.224(f).

We disagree with West Fraser that we made a ministerial error in the Final Results, pursuant to section 751(h) of the Act and 19 CFR 351.224(f), and thus have not amended our calculations with respect to West Fraser.

Pursuant to 19 CFR 351.224(e), we are amending the Final Results to correct the ministerial errors with regards to Canfor's allegations. In doing so, the calculation of the weighted-average dumping margin for Canfor changes from 35.53 percent to 35.47 percent.¹² Additionally, we are also amending the rate for the companies not selected for individual examination in this review, based on the weighted- average dumping margins calculated for the mandatory respondents,¹³ from 20.56 percent to 20.53 percent.¹⁴ For a complete discussion of the ministerial error allegations, as well as Commerce's analysis, see the accompanying Ministerial Error Memorandum.¹⁵ The Ministerial Error Memorandum is a public document and is on file electronically via ACCESS. ACCESS is available to registered users at https://access.trade.gov.

¹² See Ministerial Error Memorandum; see also Canfor Amended Final Calculation Memorandum.

¹³ The margin for the other mandatory respondent, West Fraser, remains unchanged from the Final Results and continues to be 9.65 percent.

¹⁴ See Non-Selected Rate Analysis Memorandum.

¹⁵ See Ministerial Error Memorandum.

Corrections

In the Federal Register of July 29, 2025, in FR Doc 2025-14298, on page 35669, in the first column, correct “Kings Wood Products Linc.” to “Kings Wood Products Inc.” and “in the second column, correct Trans-Pacific Trading Ltd.” to “TRAPA Forest Products Ltd.”

For a list of all non-examined companies that incorporates these corrections, see the appendix to this notice.

Amended Final Results of Review

As a result of correcting the ministerial errors described above, we determine the following estimated weighted-average dumping margins for the period January 1, 2023, through December 31, 2023:

Exporter or producer | Weighted- average dumping margin (percent)
Canfor Corporation | 35.47
Companies Not Selected for Individual Examination | 20.53

Disclosure

We intend to disclose the calculations performed in connection with these amended final results of review to parties in this review within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the amended final results of this review.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

For the companies not selected for individual review, we used an assessment rate based on the weighted average dumping margins of the mandatory respondents, based on their publicly ranged sales data.¹⁶ The amended final results of this review shall be the basis for the assessment of antidumping duties on entries of merchandise covered by the amended final results of this review and for the future deposits of estimated duties where applicable.¹⁷

¹⁶ See Non-Selected Rate Analysis Memorandum.

¹⁷ See section 751(a)(2)(C) of the Act.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.¹⁸

¹⁸ For a full discussion of this practice, see Antidumping and Countervailing Duty Proceedings: Assessment of Antidumping Duties, 68 FR 23954 (May 6, 2003).

Commerce intends to issue assessment instructions to CBP no earlier than 41 days after the date of publication of the amended final results of this review in the Federal Register in accordance with 19 CFR 356.8(a). If a timely summons is filed at the U.S. Court of International Trade, the assessment instructions will direct CBP not to liquidate relevant entries until the time for parties to file a request for a statutory injunction has expired (i.e., within 90 days of publication).

Cash Deposit Requirements

The following amended cash deposit requirements will be effective for all shipments of the subject merchandise entered, or withdrawn from warehouse, for consumption on or after July 29, 2025, the publication date of the Final Results, as provided by section 751(a)(2)(C) of the Act: (1) the amended cash deposit rate for the companies listed above will be equal to the weighted-average dumping margin established in these amended final results of review; (2) for merchandise exported by producers or exporters not covered in this review but covered in a prior completed segment of the proceeding, the cash deposit rate will continue to be the company-specific rate published in the completed segment for the most recent period; (3) if the exporter is not a firm covered in this review, a prior review, or the original investigation but the producer has been covered in a prior completed segment of this proceeding, then the cash deposit rate will be the rate established in the completed segment for the most recent period for the producer of the merchandise; and (4) the cash deposit rate for all other manufacturers or exporters will continue to be 6.04 percent ad valorem, the all-others rate established in the less-than-fair-value investigation.¹⁹ These cash deposit requirements, when imposed, shall remain in effect until further notice.

¹⁹ See Certain Softwood Lumber Products from Canada: Final Affirmative Determination of Sales at Less Than Fair Value and Affirmative Final Determination of Critical Circumstances, 82 FR 51806 (November 8, 2017).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notice Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

We are issuing and publishing these amended final results of review in accordance with sections 751(h) and 777(i) of the Act and 19 CFR 351.224(e).

Dated: September 5, 2025.
Christopher Abbott,
Deputy Assistant Secretary for Policy and Negotiations, performing the non-exclusive functions and duties of the Assistant Secretary for Enforcement and Compliance.

Appendix

Non-Selected Exporters/Producers

1. 10104704 Manitoba Ltd. O/A Woodstock Forest Products

2. 1074712 BC Ltd.; Quadra Cedar

3. 5214875 Manitoba Ltd.

4. 54 Reman

5. 9224-5737 Quebec inc.; A.G. Bois

6. 0752615 B.C Ltd.; Fraserview Remanufacturing Inc.; Fraserview Cedar Products.

7. Absolute Lumber Products Ltd.

8. Adwood Manufacturing Ltd.

9. AJ Forest Products Ltd.

10. Aler Forest Products Ltd.

11. Alpa Lumber Mills Inc.

12. Andersen Pacific Forest Products Ltd.

13. Anglo American Cedar Products Ltd.; Anglo-American Cedar Products Ltd.

14. Antrim Cedar Corporation

15. Aquila Cedar Products Ltd.

16. Arbec Lumber Inc.; Arbec Bois Doeuvre Inc.

17. Aspen Pacific Industries Inc.

18. Aspen Planers Ltd.

19. B&L Forest Products Ltd.

20. B.B. Pallets Inc.; Les Palettes B.B.Inc.

21. Babine Forest Products Limited

22. Bakerview Forest Products Inc.

23. Barrette-Chapais Ltee

24. BarretteWood Inc.

25. Benoît & Dionne Produits Forestiers Ltee; Benoît & Dionne Forest Products Ltd.

26. Blanchet Multi Concept Inc.

27. Blanchette & Blanchette Inc.

28. Bois Aise de Montreal Inc.

29. Bois Bonsaï Inc.

30. Bois Daaquam Inc.; Daaquam Lumber Inc.

31. Bois D'oeuvre Cedrico Inc.; Cedrico Lumber Inc.

32. Bois et Solutions Marketing SPEC, Inc.; SPEC Wood & Marketing Solution; SPEC Wood and Marketing Solutions Inc.

33. Bois Weedon Inc.

34. Boisaco Inc.

35. Boscus Canada Inc.

36. Boucher Bros. Lumber Ltd.

37. BPWood Ltd.

38. Bramwood Forest Inc.

39. Brink Forest Products Ltd.

40. Brunswick Valley Lumber Inc.

41. Burrows Lumber (CD) Ltd., Theo A. Burrows Lumber Company Limited

42. Busque & Laflamme Inc.

43. Canadian Bavarian Millwork & Lumber Ltd.

44. Canasia Forest Industries Ltd.

45. Canyon Lumber Company Ltd.

46. Carrier & Begin Inc.

47. Carrier Forest Products Ltd.

48. Carrier Lumber Ltd.

49. Carter Forest Products Inc.

50. Cedar Island Forest Products Ltd.

51. Cedar Valley Holdings Ltd.

52. Cedarland Forest Products Ltd.

53. Cedarline Industries Ltd.

54. Central Cedar Ltd.

55. Central Forest Products Inc.

56. Centurion Lumber Ltd.

57. Chaleur Forest Products Inc.

58. Chaleur Forest Products LP

59. Channel-ex Trading Corporation

60. CHAP Alliance, Inc.

61. Chinook Wood Products Ltd.

62. Clair Industrial Development Corp. Ltd.

63. Clermond Hamel Ltee

64. CLG Enterprises Inc.

65. CNH Products Inc.

66. Columbia River Shake & Shingle Ltd./Teal Cedar Products Ltd., DBA the Teal Jones Group.

67. Commonwealth Plywood Co. Ltd.

68. Conifex Fibre Marketing Inc.

69. Cowichan Lumber Ltd.

70. CS Manufacturing Inc. (dba Cedarshed)

71. CWP—Industriel Inc.

72. CWP—Montreal Inc.

73. D & D Pallets Ltd.

74. Dakeryn Industries Ltd.

75. Decker Lake Forest Products Ltd.

76. Deep Cove Forest Products, Inc.

77. Delco Forest Products Ltd.

78. Delta Cedar Specialties Ltd.

79. Devon Lumber Co. Ltd.

80. DH Manufacturing Inc.

81. Direct Cedar Supplies Ltd.

82. Doubletree Forest Products Ltd.

83. Downie Timber Ltd.

84. Dunkley Lumber Ltd.

85. EACOM Timber Corporation

86. East Fraser Fiber Co. Ltd.

87. Edgewood Forest Products Inc.

88. ER Probyn Export Ltd.

89. Falcon Lumber Ltd.

90. Fontaine Inc.

91. Foothills Forest Products Inc.

92. Forest Products Mauricie LP; Societe en commandite Scierie Opitciwan; Resolute Growth Canada Inc.; Resolute FP Canada Inc.; Resolute-LP Engineered Wood Larouche Inc.; Resolute-LP Engineered Wood St-Prime Limited Partnership

93. Fort St. James Forest Products Limited Partnership

94. Fraser Specialty Products Ltd.

95. FraserWood Industries Ltd.

96. Furtado Forest Products Ltd.

97. Goldwood Industries Ltd.

98. Goodfellow Inc.

99. Gorman Bros. Lumber Ltd.

100. GreenFirst Forest Products (QC) Inc.

101. Greenwell Resources Inc.

102. Griff Building Supplies Ltd.

103. Groupe Crete Chertsey Inc.

104. Groupe Crete Division St-Faustin Inc.

105. Groupe Lebel Inc.

106. H.J. Crabbe & Sons Ltd.

107. Haida Forest Products Ltd.

108. Halo Sawmill, a division of Delta Cedar Specialties Ltd.; Halo Sawmill Manufacturing Limited Partnership

109. Hampton Tree Farms, LLC (dba Hampton Lumber Sales Canada)

110. Hornepayne Lumber LP

111. Hudson Mitchell & Sons Lumber Inc.

112. Independent Building Materials Distribution Inc.

113. Interfor Corporation; Interfor Sales & Marketing Ltd.

114. Intertran Holdings Ltd. (dba Richmond Terminal)

115. Island Cedar Products Ltd.

116. Ivor Forest Products Ltd.

117. J&G Log Works Ltd.

118. J.D. Irving, Limited

119. J.H. Huscroft Ltd.

120. Jan Woodlands (2001) Inc.

121. Jasco Forest Products Ltd.

122. Jazz Forest Products Ltd.

123. Jhajj Lumber Corporation

124. Kalesnikoff Lumber Co. Ltd.

125. Kan Wood Ltd.

126. Kebois Ltee; Kebois Ltd.

127. Kelfor Industries Ltd.

128. Kermode Forest Products Ltd.

129. Keystone Timber Ltd.

130. Kings Wood Products Inc.

131. Kirkland Lake Forest Products Inc.

132. La Crete Sawmills Ltd.

133. Lafontaine Lumber Inc.

134. Langevin Forest Products Inc.

135. Lecours Lumber Co. Limited

136. Leisure Lumber Ltd.

137. Les Bardeaux Lajoie Inc.

138. Les Bois d'oeuvre Beaudoin Gauthier Inc.

139. Les Bois Martek Lumber

140. Les Chantiers de Chibougamau Ltee; Les Chantiers de Chibougamau Ltd.

141. Les Industries P.F. Inc.

142. Les Produits Forestiers D&G Ltee; D&G Forest Products Ltd.

143. Les Produits Forestiers Sitka Inc. (aka Sitka Forest Products Inc.)

144. Leslie Forest Products Ltd.

145. Lignum Forest Products LLP

146. Linwood Homes Ltd.

147. Lonestar Lumber lnc.

148. Lulumco Inc.

149. Madera Forest Products INC

150. Magnum Forest Products Ltd.

151. Maibec Inc.

152. Mainland Sawmill, a division of Terminal Forest Products

153. Manitou Forest Products Ltd.

154. Marcel Lauzon Inc.

155. Marwood Ltd.

156. Materiaux Blanchet Inc.

157. Metrie Canada Ltd.

158. Mid Valley Lumber Specialties Ltd.

159. Midway Lumber Mills Ltd.

160. Mill & Timber Products Ltd.

161. Millar Western Forest Products Ltd.

162. Mirax Lumber Products Ltd.

163. Mobilier Rustique (Beauce) Inc.

164. Monterra Lumber Mills Limited

165. Morwood Forest Products Inc.

166. Multicedre Ltee

167. Murray Brothers Lumber Company Ltd.

168. Nakina Lumber Inc.

169. National Forest Products Ltd.

170. Nicholson and Cates Ltd.

171. Norsask Forest Products Inc.

172. Norsask Forest Products Limited Partnership

173. North American Forest Products Ltd. (located in Abbotsford, British Columbia)

174. North American Forest Products Ltd. (located in Saint-Quentin, New Brunswick)

175. North Enderby Timber Ltd.

176. Northland Forest Products Ltd.

177. Oakwood Manufacturing A Division of Weston Forest Products Inc.

178. Olympic Industries Inc.

179. Olympic Industries ULC

180. Oregon Canadian Forest Products; Oregon Canadian Forest Products Inc.

181. Pacific Coast Cedar Products Ltd.

182. Pacific Lumber Remanufacturing Inc.

183. Pacific NorthWest Lumber Ltd.

184. Pacific Western Wood Works Ltd.

185. PalletSource Inc.

186. Parallel Wood Products Ltd.

187. Partap Forest Products Ltd.

188. Peak Industries (Cranbrook) Ltd.

189. Phoenix Forest Products Inc.

190. Pine Ideas Ltd.

191. Plaster Rock Lumber Corporation

192. Pioneer Pallet & Lumber Ltd.

193. Porcupine Wood Products Ltd.

194. Power Wood Corp.

195. Precision Cedar Products Corp.

196. Produits Forestiers Petit Paris Inc.

197. Produits Matra Inc.

198. Promobois G.D.S. Inc.

199. R.A. Green Lumber Ltd.

200. RBC Timber Products

201. Rembos Inc.

202. Rene Bernard Inc.

203. Rielly Industrial Lumber Inc.

204. River City Remanufacturing Inc.

205. Riverside Forest Products Inc.

206. S&R Sawmills Ltd.

207. San Group

208. San Industries Ltd.

209. Sapphire Lumber Company

210. Sawarne Lumber Co. Ltd.

211. Scierie Alexandre Lemay & Fils Inc.

212. Scierie St-Michel Inc.

213. Scierie West Brome Inc.

214. Scott Lumber Sales; Scott Lumber Sales Ltd.

215. Sechoirs de Beauce Inc.

216. Shakertown Corp.

217. Sigurdson Forest Products Ltd.

218. Sinclar Group Forest Products Ltd.

219. Skana Forest Products Ltd.

220. Skeena Sawmills Ltd.

221. Star Lumber Canada Ltd.

222. South Beach Trading Inc.

223. Specialiste du Bardeau de Cedre Inc.; Specialiste du Bardeau de Cedre Inc. (SBC)

224. Spruceland Millworks Inc.

225. Sundher Timber Products Inc.

226. Surrey Cedar Ltd.

227. T.G. Wood Products

228. Taan Forest Limited Partnership (aka Taan Forest Products)

229. Taiga Building Products Ltd.

230. Tall Tree Lumber Company

231. Tenryu Canada Corporation

232. Terminal Forest Products Ltd.

233. The Wood Source Inc.

234. Tolko Industries Ltd.; Tolko Marketing and Sales Ltd.; Gilbert Smith Forest Products Ltd.

235. Top Quality Lumber Ltd.

236. TRAPA Forest Products Ltd.

237. Triad Forest Products Ltd.

238. Twin Rivers Paper Co. Inc.

239. Tyee Timber Products Ltd.

240. Universal Lumber Sales Ltd.

241. Usine Sartigan Inc.

242. Vaagen Fibre Canada ULC

243. Vancouver Specialty Cedar Products Ltd.

244. Vancouver Urban Timberworks Ltd.; Van Urban

245. Vanderhoof Specialty Wood Products Ltd.

246. Vanderwell Contractors (1971) Ltd.

247. Visscher Lumber Inc.

248. W.I. Woodtone Industries Inc.

249. West Bay Forest Products Ltd.

250. Western Forest Products Inc.

251. Western Lumber Sales Limited

252. Western Timber Products, Inc.

253. Westminster Industries Ltd.

254. Weston Forest Products Inc.

255. Westrend Exteriors Inc

256. Weyerhaeuser Co.

257. White River Forest Products L.P.

258. Woodline Forest Products Ltd.

259. Woodtone Specialties Inc.

[FR Doc. 2025-17453 Filed 9-10-25; 8:45 am]

BILLING CODE 3510-DS-P